DEPARTMENT OF STATE

[Public Notice 3799]

Advisory Panel to the United States Section of the North Pacific Anadromous Fish Commission; Notice of a Closed Meeting

The Advisory Panel to the United States Section of the North Pacific Anadromous Fish Commission will meet on October 29, 2001, at the Victoria Conference Center, 720 Douglas Street, Victoria, B.C. V8VV 3M7, Canada. This session will involve discussion of the Eighth Annual Meeting of the North Pacific Anadromous Fish Commission, to be held on October 28-November 2, 2001. The discussion will begin at 8 a.m. and is closed to the public.

The members of the Advisory Panel will examine various options for the U.S. position at the Ninth Annual Meeting. These considerations must necessarily involve review of sensitive matters, the disclosure of which would frustrate U.S. participation at the Annual Meeting. Accordingly, the determination has been made to close the 8:00 a.m. meeting pursuant to Section 10(d) of the Federal Advisory Committee Act and 5 U.S.C. Section 552b(c)(9).

Requests for further information on the meeting should be directed to Ms. Sally Cochran, International Relations Officer, Office of Marine Conservation (OES/OMC), Room 5806, U.S. Department of State, Washington, DC 20520-7818. Ms. Cochran can be reached by telephone on (202) 647-1073 or by FAX (202) 736-7350.

Dated: October 5, 2001.
Mary Beth West,
Deputy Assistant Secretary for Oceans and Fisheries, Department of State.

[FR Doc. 01-26397 Filed 10-18-01; 8:45 am]

BILLING CODE 4710-09-P